DEPARTMENT OF DEFENSE

Department of the Navy

Certificate of Alternate Compliance for USS George Washington (CVN 73)

AGENCY: Department of the Navy (DoN), Department of Defense (DoD).

ACTION: Notice of issuance of certificate of alternate compliance.

SUMMARY: The U.S. Navy hereby announces that a Certificate of Alternate Compliance has been issued for USS GEORGE WASHINGTON (CVN 73). Due to the special construction and purpose of this vessel, the Admiralty Counsel of the Navy has determined it is a vessel of the Navy which, due to its special construction and purpose, cannot comply fully with the navigation lights provisions of the International Regulations for Preventing Collisions at Sea, 1972 (72 COLREGS) without interfering with its special function as a naval ship. The intended effect of this notice is to warn mariners in waters where 72 COLREGS apply.

DATES: This Certificate of Alternate Compliance is effective May 18, 2023 and is applicable beginning May 4, 2023.

FOR FURTHER INFORMATION CONTACT: Lieutenant Commander J. Martin Bunt, JAGC, U.S. Navy, Admiralty Attorney, Office of the Judge Advocate General, Admiralty and Claims Division (Code 15), 1322 Patterson Ave. SE, Suite 3000, Washington Navy Yard, DC 20374-5066, 202-685-5040, or admiralty@navy.mil.

SUPPLEMENTARY INFORMATION: Background and Purpose. Executive Order (E.O.) 11964 of January 19, 1977 and 33 U.S.C. 1605 provide that the requirements of the International Regulations for Preventing Collisions at Sea, 1972 (72 COLREGS), as to the number, position, range, or arc of visibility of lights or shapes, as well as to the disposition and characteristics of sound-signaling appliances, shall not apply to a vessel or class of vessels of the Navy where the Secretary of the Navy shall find and certify that, by reason of special construction or purpose, it is not possible for such vessel(s) to comply fully with the provisions without interfering with the special function of the vessel(s). Notice of issuance of a Certificate of Alternate Compliance must be made in the Federal Register.

In accordance with 33 U.S.C. 1605, the Admiralty Counsel of the Navy, under authority delegated by the Secretary of the Navy, hereby finds and certifies that USS GEORGE WASHINGTON (CVN 73) is a vessel of special construction or purpose, and that, with respect to the position of the following navigational lights, it is not possible to comply fully with the requirements of the provisions enumerated in the 72 COLREGS without interfering with the special function of the vessel:

Rule 21(a), pertaining to the placement of the masthead lights over the fore and aft centerline of the ship; Annex I, paragraph 2(g), pertaining to the placement of the sidelights above the hull; Rule 21(b) pertaining to the visibility of the sidelights; Annex I, paragraph 3(a), pertaining to the placement of the forward masthead light in the forward quarter of the ship; and Annex I, Paragraph (2)(i)(iii) pertaining to the placement of the task lights.

The Admiralty Counsel of the Navy further finds and certifies that these navigational lights are in closest possible compliance with the applicable provision of the 72 COLREGS.

Authority: 33 U.S.C. 1605(c), E.O. 11964.

Dated: May 15, 2023.
A.R. Holt,
Lieutenant Commander, Judge Advocate General's Corps, U.S. Navy, Federal Register Liaison Officer.

[FR Doc. 2023-10630 Filed 5-17-23; 8:45 am]

BILLING CODE 3810-FF-P